DEPARTMENT OF ENERGY

Federal Energy Regulatory Commission

Combined Notice of Filings #1

Take notice that the Commission received the following electric corporate filings:

Docket Numbers: EC19-37-000.

Applicants: Duke Energy Renewables Solar, LLC, North Rosamond Solar, LLC.

Description: Joint Application for Authorization Under Section 203 of the Federal Power Act of Duke Energy Renewables Solar, LLC, et al.

Filed Date: 12/14/18.

Accession Number: 20181214-5254.

Comments Due: 5 p.m. ET 1/4/19.

Docket Numbers: EC19-38-000.

Applicants: Mankato Energy Center, LLC, Mankato Energy Center II, LLC, Northern States Power Company, a Minnesota corporation.

Description: Joint Application for Authorization Under Section 203 of the Federal Power Act, et al. of Northern States Power Company, a Minnesota corporation, et al.

Filed Date: 12/14/18.

Accession Number: 20181214-5256.

Comments Due: 5 p.m. ET 1/4/19.

Docket Numbers: EC19-39-000.

Applicants: Coolidge Power LLC, SWG Coolidge Holdings, LLC.

Description: Application for Authorization Under Section 203 of the Federal Power Act, et al. of Coolidge Power LLC, et al.

Filed Date: 12/17/18.

Accession Number: 20181217-5250.

Comments Due: 5 p.m. ET 1/7/19.

Take notice that the Commission received the following exempt wholesale generator filings:

Docket Numbers: EG19-34-000.

Applicants: Techren Solar V LLC.

Description: Notice of Self-Certification of Exempt Wholesale Generator Status of Techren Solar V LLC.

Filed Date: 12/17/18.

Accession Number: 20181217-5109.

Comments Due: 5 p.m. ET 1/7/19.

Take notice that the Commission received the following electric rate filings:

Docket Numbers: ER10-1790-016; ER10-2596-007; ER11-3325-005.

Applicants: BP Energy Company, Fowler Ridge II Wind Farm LLC, Whiting Clean Energy, Inc.

Description: Supplement to June 26, 2018 Updated Market Power Analysis for Central Region of BP Energy Company, et al.

Filed Date: 12/17/18.

Accession Number: 20181217-5024.

Comments Due: 5 p.m. ET 1/7/19

Docket Numbers: ER10-2405-006.

Applicants: High Prairie Wind Farm II, LLC.

Description: Supplement to June 29, 2018 Updated Market Power Analysis for Central Region of High Prairie Wind Farm II, LLC.

Filed Date: 12/14/18.

Accession Number: 20181214-5259.

Comments Due: 5 p.m. ET 1/4/19.

Docket Numbers: ER10-2407-005; ER10-2425-007; ER17-1316-002;ER10-2424-005; ER13-1816-009; ER18-1186-001.

Applicants: Lost Lakes Wind Farm LLC, Pioneer Prairie Wind Farm I, LLC, Quilt Block Wind Farm LLC, Rail Splitter Wind Farm, LLC, Sustaining Power Solutions LLC, Turtle Creek Wind Farm LLC.

Description: Supplement to June 26, 2018 Updated Market Power Analysis for Central Region of Lost Lakes Wind Farm LLC, et al.

Filed Date: 12/14/18.

Accession Number: 20181214-5260.

Comments Due: 5 p.m. ET 1/4/19.

Docket Numbers: ER10-3079-015.

Applicants: Tyr Energy, LLC.

Description: Updated Market Power Analysis for the Southwest Power Pool Region of Tyr Energy, LLC.

Filed Date: 12/17/18.

Accession Number: 20181217-5122.

Comments Due: 5 p.m. ET 2/15/19.

Docket Numbers: ER17-801-002.

Applicants: Constellation Power Source Generation, LLC.

Description: Compliance filing: Informational Filing Regarding Riverside Unit 7 Deactivation, Request for Waiver to be effective N/A.

Filed Date: 12/14/18.

Accession Number: 20181214-5220.

Comments Due: 5 p.m. ET 1/4/19

Docket Numbers: ER19-8-000.

Applicants: Sweetwater Solar, LLC.

Description: Report Filing: Supplement to Market-Based Rate Application to be effective N/A.

Filed Date: 12/14/18.

Accession Number: 20181214-5197.

Comments Due: 5 p.m. ET 1/4/19.

Docket Numbers: ER19-119-000.

Applicants: Techren Solar I LLC.

Description: Report Filing: Supplement to Market-Based Rate Application to be effective N/A.

Filed Date: 12/14/18.

Accession Number: 20181214-5205.

Comments Due: 5 p.m. ET 1/4/19.

Docket Numbers: ER19-250-001.

Applicants: PJM Interconnection, L.L.C.

Description: Tariff Amendment: Amendment to ER19-250-000; WMPA SA No. 4919; Queue No. AC2-073 to be effective 1/30/2018.

Filed Date: 12/17/18.

Accession Number: 20181217-5240.

Comments Due: 5 p.m. ET 1/7/19.

Docket Numbers: ER19-562-000.

Applicants: PJM Interconnection, L.L.C.

Description: § 205(d) Rate Filing: Revisions to OA, Schedule 6, sec 1.5 re: Market Efficiency Process Enhancements to be effective 2/13/2019.

Filed Date: 12/14/18.

Accession Number: 20181214-5209.

Comments Due: 5 p.m. ET 1/4/19.

Docket Numbers: ER19-563-000.

Applicants: Consumers Energy Company.

Description: § 205(d) Rate Filing: Amendment No. 3 to Contract and Rate Schedule to be effective 2/12/2019.

Filed Date: 12/14/18.

Accession Number: 20181214-5210.

Comments Due: 5 p.m. ET 1/4/19.

Docket Numbers: ER19-564-000.

Applicants: PacifiCorp.

Description: § 205(d) Rate Filing: OATT Attachment M ? OR Direct Access to be effective 2/14/2019.

Filed Date: 12/14/18.

Accession Number: 20181214-5212.

Comments Due: 5 p.m. ET 1/4/19.

Docket Numbers: ER19-565-000.

Applicants: NorthWestern Corporation.

Description: § 205(d) Rate Filing: SA 32 9th Rev—NITSA with Talen Montana LLC (Colstrip Steam Electric Station) to be effective 3/1/2019.

Filed Date: 12/14/18.

Accession Number: 20181214-5242.

Comments Due: 5 p.m. ET 1/4/19.

Docket Numbers: ER19-566-000.

Applicants: NorthWestern Corporation.

Description: § 205(d) Rate Filing: SA 591 7th Rev—NITSA with Benefis Health System to be effective 3/1/2019.

Filed Date: 12/14/18.

Accession Number: 20181214-5239.

Comments Due: 5 p.m. ET 1/4/19.

Docket Numbers: ER19-567-000.

Applicants: NorthWestern Corporation.

Description: § 205(d) Rate Filing: SA 666 6th Rev—NITSA with Suiza Dairy to be effective 3/1/2019.

Filed Date: 12/14/18.

Accession Number: 20181214-5241.

Comments Due: 5 p.m. ET 1/4/19.

Docket Numbers: ER19-568-000.

Applicants: NorthWestern Corporation.

Description: § 205(d) Rate Filing: SA 642 7th Rev—NITSA with General Mills to be effective 3/1/2019.

Filed Date: 12/14/18.

Accession Number: 20181214-5243.

Comments Due: 5 p.m. ET 1/4/19.

Docket Numbers: ER19-569-000.

Applicants: NorthWestern Corporation.

Description: § 205(d) Rate Filing: SA 767 7th Rev NITSA with Basin Electric Power Coop to be effective 3/1/2019.

Filed Date: 12/14/18.

Accession Number: 20181214-5244.

Comments Due: 5 p.m. ET 1/4/19.

Docket Numbers: ER19-570-000.

Applicants: Vineyard Wind LLC.

Description: Petition for Waiver of Tariff Provisions, et al. of Vineyard Wind LLC.

Filed Date: 12/14/18.

Accession Number: 20181214-5267.

Comments Due: 5 p.m. ET 1/4/19.

Docket Numbers: ER19-571-000.

Applicants: ND Paper, Inc.

Description: § 205(d) Rate Filing: Notification of Change Amendment to be effective 12/18/2018.

Filed Date: 12/17/18.

Accession Number: 20181217-5025.

Comments Due: 5 p.m. ET 1/7/19.

Docket Numbers: ER19-572-000.

Applicants: NorthWestern Corporation.

Description: § 205(d) Rate Filing: SA 35 6th Rev—NITSA with The Town of Philipsburg to be effective 3/1/2019.

Filed Date: 12/17/18.

Accession Number: 20181217-5035.

Comments Due: 5 p.m. ET 1/7/19.

Docket Numbers: ER19-573-000.

Applicants: NorthWestern Corporation.

Description: § 205(d) Rate Filing: SA 245 9th Rev—NITSA with Ash Grove Cement to be effective 3/1/2019.

Filed Date: 12/17/18.

Accession Number: 20181217-5036.

Comments Due: 5 p.m. ET 1/7/19.

Docket Numbers: ER19-574-000.

Applicants: AEP Texas Inc.

Description: § 205(d) Rate Filing: AEPTX-Oncor IA Third Amended & Restated to be effective 12/3/2018.

Filed Date: 12/17/18.

Accession Number: 20181217-5084.

Comments Due: 5 p.m. ET 1/7/19.

Docket Numbers: ER19-575-000.

Applicants: Flat Ridge Wind Energy, LLC.

Description: § 205(d) Rate Filing: Revised Market-Based Rate Tariff to be effective 2/16/2019.

Filed Date: 12/17/18.

Accession Number: 20181217-5254.

Comments Due: 5 p.m. ET 1/7/19.

Docket Numbers: ER19-576-000.

Applicants: Flat Ridge 2 Wind Energy LLC.

Description: § 205(d) Rate Filing: Revised Market-Based Rate Tariff to be effective 2/16/2019.

Filed Date: 12/17/18.

Accession Number: 20181217-5260.

Comments Due: 5 p.m. ET 1/7/19.

Docket Numbers: ER19-577-000.

Applicants: Rolling Thunder I Power Partners, LLC.

Description: § 205(d) Rate Filing: Revised Market-Based Rate Tariff to be effective 2/16/2019.

Filed Date: 12/17/18.

Accession Number: 20181217-5262.

Comments Due: 5 p.m. ET 1/7/19.

Take notice that the Commission received the following electric reliability filings:

Docket Numbers: RD19-2-000.

Applicants: North American Electric Reliability Corporation, Texas Reliability Entity, Inc.

Description: Joint Petition of the North American Electric Reliability Corporation and Texas Reliability Entity, Inc. for Approval of Retirement of Regional Reliability Standard IRO-006-TRE-1.

Filed Date: 12/14/18.

Accession Number: 20181214-5272.

Comments Due: 5 p.m. ET 1/16/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 17, 2018.
Nathaniel J. Davis, Sr.,
Deputy Secretary.

[FR Doc. 2018-27732 Filed 12-20-18; 8:45 am]

BILLING CODE 6717-01-P